Title 3—

The President

Memorandum of February 14, 2008

Assignment of Function Regarding Medicare Funding

Memorandum for the Secretary of Health and Human Services

By the authority vested in me as President by the Constitution and the laws of the United States, including section 301 of title 3, United States Code, you are directed to perform the function of the President as described under section 802 of the Medicare Prescription Drug, Improvement, and Modernization Act of 2003 (Public Law 108-173, 31 U.S.C. 1105(h) (1)).

You are authorized and directed to publish this memorandum in the Federal Register.

THE WHITE HOUSE,

Washington, February 14, 2008.

[FR Doc. 08-783

Filed 2-15-08; 11:44 am]

Billing code 4110-60-M